ENVIRONMENTAL PROTECTION AGENCY

40 CFR Part 52

[EPA-R06-OAR-2007-0386; FRL-8321-8]

Approval and Promulgation of Air Quality Implementation Plans; Texas; Revision to the Texas State Implementation Plan Regarding a Negative Declaration for the Synthetic Organic Chemical Manufacturing Industry Batch Processing Source Category in El Paso County

AGENCY: Environmental Protection Agency (EPA).

ACTION: Proposed rule.

SUMMARY: Section 172(c)(1) of the Clean Air Act (CAA) requires areas that are not attaining a National Ambient Air Quality Standard (NAAQS) to reduce emissions from existing sources by adopting, at a minimum, reasonably available control technology (RACT). EPA has established source categories for which RACT must be implemented. If no major sources of volatile organic compound (VOC) emissions in a particular source category exist in a nonattainment area, a State may submit a negative declaration for that category. Texas submitted a State Implementation Plan (SIP) revision which included negative declarations for certain source categories in the El Paso 1-hour ozone standard nonattainment area. EPA previously approved the State's declaration that no major sources existed for 9 source categories in the El Paso area. In the approval EPA neglected to approve the negative declaration for the synthetic organic chemical manufacturing industry (SOCMI) batch processing category in the El Paso area. EPA is proposing to approve this negative declaration for the El Paso 1-hour ozone standard nonattainment area.

DATES: Written comments must be received by July 9, 2007.

ADDRESSES: Comments may be mailed to Mr. Carl Young, Acting Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Jeffrey Riley, Air Planning Section (6PD-L), Environmental Protection Agency, Region 6, 1445 Ross Avenue, Suite 700, Dallas, Texas 75202-2733, telephone 214-665-8542; fax number 214-665-7263; e-mail address riley.jeffrey@epa.gov.

SUPPLEMENTARY INFORMATION: In the final rules section of this Federal Register, EPA is approving the State's SIP submittal as a direct final rule without prior proposal because the Agency views this as a noncontroversial submittal and anticipates no relevant adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of the rule, and if that provision may be severed from the remainder of the rule, EPA may adopt as final those provisions of the rule that are not the subject of an adverse comment.

For additional information, see the direct final rule which is located in the rules section of this Federal Register.

Dated: May 21, 2007.
Richard E. Greene,
Regional Administrator, Region 6.

[FR Doc. E7-10766 Filed 6-6-07; 8:45 am]

BILLING CODE 6560-50-P